Executive Order 14017 of February 24, 2021

America's Supply Chains

By the authority vested in me as President by the Constitution and the laws of the United States of America, it is hereby ordered as follows:

Section 1. Policy. The United States needs resilient, diverse, and secure supply chains to ensure our economic prosperity and national security. Pandemics and other biological threats, cyber-attacks, climate shocks and extreme weather events, terrorist attacks, geopolitical and economic competition, and other conditions can reduce critical manufacturing capacity and the availability and integrity of critical goods, products, and services. Resilient American supply chains will revitalize and rebuild domestic manufacturing capacity, maintain America's competitive edge in research and development, and create well-paying jobs. They will also support small businesses, promote prosperity, advance the fight against climate change, and encourage economic growth in communities of color and economically distressed areas.

More resilient supply chains are secure and diverse—facilitating greater domestic production, a range of supply, built-in redundancies, adequate stockpiles, safe and secure digital networks, and a world-class American manufacturing base and workforce. Moreover, close cooperation on resilient supply chains with allies and partners who share our values will foster collective economic and national security and strengthen the capacity to respond to international disasters and emergencies.

Therefore, it is the policy of my Administration to strengthen the resilience of America's supply chains.

Sec. 2. Coordination. The Assistant to the President for National Security Affairs (APNSA) and the Assistant to the President for Economic Policy (APEP) shall coordinate the executive branch actions necessary to implement this order through the interagency process identified in National Security Memorandum 2 of February 4, 2021 (Renewing the National Security Council System). In implementing this order, the heads of agencies should, as appropriate, consult outside stakeholders—such as those in industry, academia, non-governmental organizations, communities, labor unions, and State, local, and Tribal governments—in order to fulfill the policy identified in section 1 of this order.

Sec. 3. 100-Day Supply Chain Review. (a) To advance the policy described in section 1 of this order, the APNSA and the APEP, in coordination with the heads of appropriate agencies, as defined in section 6(a) of this order, shall complete a review of supply chain risks, as outlined in subsection (b) of this section, within 100 days of the date of this order.

(b) Within 100 days of the date of this order, the specified heads of agencies shall submit the following reports to the President, through the APNSA and the APEP:

(i) The Secretary of Commerce, in consultation with the heads of appropriate agencies, shall submit a report identifying risks in the semiconductor manufacturing and advanced packaging supply chains and policy recommendations to address these risks. The report shall include the items described in section 4(c) of this order.

(ii) The Secretary of Energy, in consultation with the heads of appropriate agencies, shall submit a report identifying risks in the supply chain for high-capacity batteries, including electric-vehicle batteries, and policy recommendations to address these risks. The report shall include the items described in section 4(c) of this order.

(iii) The Secretary of Defense (as the National Defense Stockpile Manager), in consultation with the heads of appropriate agencies, shall submit a report identifying risks in the supply chain for critical minerals and other identified strategic materials, including rare earth elements (as determined by the Secretary of Defense), and policy recommendations to address these risks. The report shall also describe and update work done pursuant to Executive Order 13953 of September 30, 2020 (Addressing the Threat to the Domestic Supply Chain From Reliance on Critical Minerals From Foreign Adversaries and Supporting the Domestic Mining and Processing Industries). The report shall include the items described in section 4(c) of this order.

(iv) The Secretary of Health and Human Services, in consultation with the heads of appropriate agencies, shall submit a report identifying risks in the supply chain for pharmaceuticals and active pharmaceutical ingredients and policy recommendations to address these risks. The report shall complement the ongoing work to secure the supply chains of critical items needed to combat the COVID-19 pandemic, including personal protective equipment, conducted pursuant to Executive Order 14001 of January 21, 2021 (A Sustainable Public Health Supply Chain). The report shall include the items described in section 4(c) of this order.

(c) The APNSA and the APEP shall review the reports required under subsection (b) of this section and shall submit the reports to the President in an unclassified form, but may include a classified annex.

(d) The APNSA and the APEP shall include a cover memorandum to the set of reports submitted pursuant to this section, summarizing the reports' findings and making any additional overall recommendations for addressing the risks to America's supply chains, including the supply chains for the products identified in subsection (b) of this section.

Sec. 4. Sectoral Supply Chain Assessments. (a) Within 1 year of the date of this order, the specified heads of agencies shall submit the following reports to the President, through the APNSA and the APEP:

(i) The Secretary of Defense, in consultation with the heads of appropriate agencies, shall submit a report on supply chains for the defense industrial base that updates the report provided pursuant to Executive Order 13806 of July 21, 2017 (Assessing and Strengthening the Manufacturing and Defense Industrial Base and Supply Chain Resiliency of the United States), and builds on the Annual Industrial Capabilities Report mandated by the Congress pursuant to section 2504 of title 10, United States Code. The report shall identify areas where civilian supply chains are dependent upon competitor nations, as determined by the Secretary of Defense.

(ii) The Secretary of Health and Human Services, in consultation with the heads of appropriate agencies, shall submit a report on supply chains for the public health and biological preparedness industrial base (as determined by the Secretary of Health and Human Services). The report shall complement the work conducted pursuant to section 4 of Executive Order 14001.

(iii) The Secretary of Commerce and the Secretary of Homeland Security, in consultation with the heads of appropriate agencies, shall submit a report on supply chains for critical sectors and subsectors of the information and communications technology (ICT) industrial base (as determined by the Secretary of Commerce and the Secretary of Homeland Security), including the industrial base for the development of ICT software, data, and associated services.

(iv) The Secretary of Energy, in consultation with the heads of appropriate agencies, shall submit a report on supply chains for the energy sector industrial base (as determined by the Secretary of Energy).

(v) The Secretary of Transportation, in consultation with the heads of appropriate agencies, shall submit a report on supply chains for the transportation industrial base (as determined by the Secretary of Transportation).

(vi) The Secretary of Agriculture, in consultation with the heads of appropriate agencies, shall submit a report on supply chains for the production of agricultural commodities and food products.

(b) The APNSA and the APEP shall, as appropriate and in consultation with the heads of appropriate agencies, recommend adjustments to the scope for each industrial base assessment, including digital networks, services, assets, and data (“digital products”), goods, services, and materials that are relevant within more than one defined industrial base, and add new assessments, as appropriate, for goods and materials not included in the above industrial base assessments.

(c) Each report submitted under subsection (a) of this section shall include a review of:

(i) the critical goods and materials, as defined in section 6(b) of this order, underlying the supply chain in question;

(ii) other essential goods and materials, as defined in section 6(d) of this order, underlying the supply chain in question, including digital products;

(iii) the manufacturing or other capabilities necessary to produce the materials identified in subsections (c)(i) and (c)(ii) of this section, including emerging capabilities;

(iv) the defense, intelligence, cyber, homeland security, health, climate, environmental, natural, market, economic, geopolitical, human-rights or forced-labor risks or other contingencies that may disrupt, strain, compromise, or eliminate the supply chain—including risks posed by supply chains' reliance on digital products that may be vulnerable to failures or exploitation, and risks resulting from the elimination of, or failure to develop domestically, the capabilities identified in subsection (c)(iii) of this section—and that are sufficiently likely to arise so as to require reasonable preparation for their occurrence;

(v) the resilience and capacity of American manufacturing supply chains and the industrial and agricultural base—whether civilian or defense—of the United States to support national and economic security, emergency preparedness, and the policy identified in section 1 of this order, in the event any of the contingencies identified in subsection (c)(iv) of this section occurs, including an assessment of:

(A) the manufacturing or other needed capacities of the United States, including the ability to modernize to meet future needs;

(B) gaps in domestic manufacturing capabilities, including nonexistent, extinct, threatened, or single-point-of-failure capabilities;

(C) supply chains with a single point of failure, single or dual suppliers, or limited resilience, especially for subcontractors, as defined by section 44.101 of title 48, Code of Federal Regulations (Federal Acquisition Regulation);

(D) the location of key manufacturing and production assets, with any significant risks identified in subsection (c)(iv) of this section posed by the assets' physical location;

(E) exclusive or dominant supply of critical goods and materials and other essential goods and materials, as identified in subsections (c)(i) and (c)(ii) of this section, by or through nations that are, or are likely to become, unfriendly or unstable;

(F) the availability of substitutes or alternative sources for critical goods and materials and other essential goods and materials, as identified in subsections (c)(i) and (c)(ii) of this section;

(G) current domestic education and manufacturing workforce skills for the relevant sector and identified gaps, opportunities, and potential best practices in meeting the future workforce needs for the relevant sector;

(H) the need for research and development capacity to sustain leadership in the development of critical goods and materials and other essential goods and materials, as identified in subsections (c)(i) and (c)(ii) of this section;

(I) the role of transportation systems in supporting existing supply chains and risks associated with those transportation systems; and

(J) the risks posed by climate change to the availability, production, or transportation of critical goods and materials and other essential goods and materials, as identified in subsections (c)(i) and (c)(ii) of this section.

(vi) allied and partner actions, including whether United States allies and partners have also identified and prioritized the critical goods and materials and other essential goods and materials identified in subsections (c)(i) and (c)(ii) of this section, and possible avenues for international engagement. In assessing these allied and partner actions, the heads of agencies shall consult with the Secretary of State;

(vii) the primary causes of risks for any aspect of the relevant industrial base and supply chains assessed as vulnerable pursuant to subsection (c)(v) of this section;

(viii) a prioritization of the critical goods and materials and other essential goods and materials, including digital products, identified in subsections (c)(i) and (c)(ii) of this section for the purpose of identifying options and policy recommendations. The prioritization shall be based on statutory or regulatory requirements; importance to national security, emergency preparedness, and the policy set forth in section 1 of this order; and the review conducted pursuant to subsection (c)(v) of this section;

(ix) specific policy recommendations for ensuring a resilient supply chain for the sector. Such recommendations may include sustainably reshoring supply chains and developing domestic supplies, cooperating with allies and partners to identify alternative supply chains, building redundancy into domestic supply chains, ensuring and enlarging stockpiles, developing workforce capabilities, enhancing access to financing, expanding research and development to broaden supply chains, addressing risks due to vulnerabilities in digital products relied on by supply chains, addressing risks posed by climate change, and any other recommendations;

(x) any executive, legislative, regulatory, and policy changes and any other actions to strengthen the capabilities identified in subsection (c)(iii) of this section, and to prevent, avoid, or prepare for any of the contingencies identified in subsection (c)(iv) of this section; and

(xi) proposals for improving the Government-wide effort to strengthen supply chains, including proposals for coordinating actions required under this order with ongoing efforts that could be considered duplicative of the work of this order or with existing Government mechanisms that could be used to implement this order in a more effective manner.

(d) The APNSA and the APEP shall review the reports required under subsection (a) of this section and shall submit the reports to the President in an unclassified form, but may include a classified annex.

Sec. 5. General Review and Recommendations. As soon as practicable following the submission of the reports required under section 4 of this order, the APNSA and the APEP, in coordination with the heads of appropriate agencies, shall provide to the President one or more reports reviewing the actions taken over the previous year and making recommendations concerning:

(a) steps to strengthen the resilience of America's supply chains;

(b) reforms needed to make supply chain analyses and actions more effective, including statutory, regulatory, procedural, and institutional design changes. The report shall include recommendations on whether additional offices, personnel, resources, statistical data, or authorities are needed;

(c) establishment of a quadrennial supply chain review, including processes and timelines regarding ongoing data gathering and supply chain monitoring;

(d) diplomatic, economic, security, trade policy, informational, and other actions that can successfully engage allies and partners to strengthen supply chains jointly or in coordination;

(e) insulating supply chain analyses and actions from conflicts of interest, corruption, or the appearance of impropriety, to ensure integrity and public confidence in supply chain analyses;

(f) reforms to domestic and international trade rules and agreements needed to support supply chain resilience, security, diversity, and strength;

(g) education and workforce reforms needed to strengthen the domestic industrial base;

(h) steps to ensure that the Government's supply chain policy supports small businesses, prevents monopolization, considers climate and other environmental impacts, encourages economic growth in communities of color and economically distressed areas, and ensures geographic dispersal of economic activity across all regions of the United States; and

(i) Federal incentives and any amendments to Federal procurement regulations that may be necessary to attract and retain investments in critical goods and materials and other essential goods and materials, as defined in sections 6(b) and 6(d) of this order, including any new programs that could encourage both domestic and foreign investment in critical goods and materials.

Sec. 6. Definitions. For purposes of this order:

(a) “Agency” means any authority of the United States that is an “agency” under 44 U.S.C. 3502(1), other than those considered to be independent regulatory agencies, as defined in 44 U.S.C. 3502(5). “Agency” also means any component of the Executive Office of the President.

(b) “Critical goods and materials” means goods and raw materials currently defined under statute or regulation as “critical” materials, technologies, or infrastructure.

(c) “Critical minerals” has the meaning given to that term in Executive Order 13953 of September 30, 2020 (Addressing the Threat to the Domestic Supply Chain From Reliance on Critical Minerals From Foreign Adversaries and Supporting the Domestic Mining and Processing Industries).

(d) “Other essential goods and materials” means goods and materials that are essential to national and economic security, emergency preparedness, or to advance the policy set forth in section 1 of this order, but not included within the definition of “critical goods and materials.”

(e) “Supply chain,” when used with reference to minerals, includes the exploration, mining, concentration, separation, alloying, recycling, and reprocessing of minerals.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 24, 2021.

[FR Doc. 2021-04280

Filed 2-26-21; 8:45 am]

Billing code 3295-F1-P